DEPARTMENT OF VETERANS AFFAIRS

National Research Advisory Council; Reestablishment

AGENCY: Department of Veterans Affairs.

ACTION: Notice of intent.

SUMMARY: We are giving notice that the Secretary of Veterans Affairs intends to reestablish the National Research Advisory Council for a 2-year period. The Secretary has determined that the Committee is necessary and in the public interest.

FOR FURTHER INFORMATION CONTACT: Jeffrey Moragne, Committee Management Office, Department of Veterans Affairs, Advisory Committee Management Office (00AC), 810 Vermont Avenue NW, Washington, DC 20420; email at Jeffrey.Moragne@va.gov or (202) 714-1578.

SUPPLEMENTARY INFORMATION: Pursuant to the Federal Advisory Committee Act, notice is hereby given that the Secretary of Veterans Affairs intends to reestablish the National Research Advisory Council for two (2) years from the filing date of the charter's reestablishment. The Committee advises the Secretary of Veterans Affairs and the Under Secretary for Health (USH) and makes recommendations on the nature and scope of research and development sponsored and/or conducted by the Veterans Health Administration (VHA) to include: (1) the policies and projects of the Office of Research and Development (ORD); (2) the focus of research on the high priority health care needs of Veterans; (3) the balance of basic, applied, and outcomes research; (4) the scientific merit review process; (5) the appropriate mechanisms by which ORD can leverage its resources to enhance the research financial base; (6) the rapid response to changing health care needs, while maintaining the stability of the research infrastructure; and (7) the protection of human subjects of research.

Dated: July 13, 2023.
LaTonya L. Small,
Federal Advisory Committee Management Officer.

[FR Doc. 2023-15166 Filed 7-17-23; 8:45 am]

BILLING CODE P